DEPARTMENT OF ENERGY

Federal Energy Regulatory Commission

[Docket No. ER00-2268-010, et al.]

Pinnacle West Capital Corporation, et al.; Electric Rate and Corporate Filings

March 2, 2005.

The following filings have been made with the Commission. The filings are listed in ascending order within each docket classification.

1. Pinnacle West Capital Corporation, Arizona Public Service Company, Pinnacle West Energy Corporation and APS Energy Services, Inc.

[Docket Nos. ER00-2268-010, EL05-10-002; ER99-4124-008, EL05-11-0002; ER00-3312-009, EL05-12-002; ER99-4122-011, EL05-13-002]

Take notice that on February 18, 2005, the Pinnacle West Capital Corporation (PWCC), the Arizona Public Service Company (APS), the Pinnacle West Energy Corporation (PWEC) and APS Energy Services Company, Inc. (APSES) (collectively, Pinnacle West Companies) filed with the Commission a response to the Commission's Order dated December 20, 2004, directing Pinnacle West Companies to provide additional information to the Commission to supplement its market update for authorization to sell at market-based rates and various tariff amendments filed on August 11, 2004.

Comment Date: 5 p.m. Eastern Time on March 11, 2005.

2. PSEG Lawrenceburg Energy Company LLC and PSEG Waterford Energy LLC

[Docket Nos. ER01-2460-003 and ER01-2482-003]

Take notice that on February 15, 2005, PSEG Lawrenceburg Energy Company LLC (PSEG Lawrenceburg) and PSEG Waterford Energy LLC (PSEG Waterford) (collectively, the Applicants) submitted supplemental information regarding their February 7, 2005 filing of an updated market power analysis and updated tariff sheets in the above-referenced proceeding.

Comment Date: 5 p.m. Eastern Time on March 9, 2005.

3. PacifiCorp

[Docket No. ER05-554-001]

Take notice that on February 28, 2005, PacifiCorp tendered for filing an amendment to their February 4, 2005 filing in Docket No. ER05-554-000 regarding Generation Interconnection Agreements between PacifiCorp and Roseburg Forest Products Inc.; TDY Industries, Inc. PacifiCorp states it also filed a Transmission Service Agreement between PacifiCorp and Warm Springs Power Enterprises in the same filing.

Comment Date: 5 p.m. Eastern Time on March 21, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Linda L. Mitry,
Deputy Secretary.

[FR Doc. E5-1015 Filed 3-9-05; 8:45 am]

BILLING CODE 6717-01-P